Title 3—

The President

Proclamation 9811 of October 26, 2018

Establishment of the Camp Nelson National Monument

By the President of the United States of America

A Proclamation

Initially established as a Union Army supply depot and hospital, Camp Nelson, located in Jessamine County, Kentucky, was a key site of emancipation for African American soldiers and a refugee camp for their families during the Civil War. Camp Nelson was one of the largest Union Army recruitment centers for African American Union soldiers, then known as United States Colored Troops. During the war, thousands of enslaved African Americans risked their lives escaping to Camp Nelson, out of a deep desire for freedom and the right of self-determination. Today, the site is one of the best-preserved landscapes and archeological sites associated with United States Colored Troops recruitment and the refugee experiences of African American slaves seeking freedom during the Civil War.

Between 1863 and 1865, Camp Nelson served as a bustling Union Army encampment, hospital, and supply depot. From it, the Union Army dispatched soldiers, horses, and other supplies to support military operations at the Cumberland Gap and the frontlines in Tennessee and Virginia. During this time, enslaved individuals sought to gain their freedom by fleeing to Camp Nelson and other Union military installations in Kentucky. They placed their hope in places like Camp Nelson even though slavery was then legal in Kentucky. The Emancipation Proclamation, issued by President Abraham Lincoln on January 1, 1863, to free slaves from bondage, applied only to jurisdictions in which the people were in rebellion against the United States. As a strategically important border State, Kentucky had remained loyal to the Union and, therefore, was not within the proclamation's scope.

Kentucky was the last State in the Union to allow the enlistment of African American men. Beginning in April of 1864, however, the State allowed free African American men and enslaved men who had the express permission of their owners to enlist. Notwithstanding these limited avenues to enlistment, hundreds of enslaved men risked their lives fleeing slavery and arrived at Camp Nelson during the spring of 1864, with the goal of enlisting in the Union Army in order to gain their freedom and to fight for the freedom of others.

As the pressure to meet recruitment demands grew, the Union Army was forced to allow all able-bodied men who were of age to join the Army. Kentucky, in particular, was unable to meet its draft quotas with only white soldiers. In the summer after enslaved men began to arrive at Camp Nelson, in June of 1864, more than 500 United States Colored Troops were mustered into service. In July, a record 1,370 new African American troops enlisted in the Union Army. On the single biggest recruitment day—July 25, 1864—322 African American men enlisted at Camp Nelson. By the end of the Civil War, more than 23,000 African Americans had joined the Union Army in Kentucky, making it the second largest contributor of United States Colored Troops of any State. More than 10,000 of these troops enlisted or were trained at Camp Nelson. Eight United States Colored Troop regiments were founded at Camp Nelson and five other such regiments were stationed there during the war.

Many enslaved men who arrived at Camp Nelson in 1864 were accompanied by their families. Although enlisting in the Union Army allowed men to gain their own freedom, it did not have the same effect for their family members, who often remained slaves in the eyes of the law and struggled to support and defend themselves. African Americans at Camp Nelson who did not enlist built refugee encampments. And as United States Colored Troop recruitment continued to climb, so did the population of freedom-seeking refugees at Camp Nelson, despite efforts by the Union Army to break them up and return the enslaved individuals to their owners.

The Union Army's efforts to remove refugees from Camp Nelson culminated in the tragic, forced expulsion of approximately 400 African American women and children during frigid weather in November of 1864, causing the deaths of 102 refugees. That tragedy brought national attention and public support to the plight of the refugees at Camp Nelson. In response, the Union Army established the Camp Nelson Home for Colored Refugees in January 1865, creating a safe haven for the wives and children of enlisted African American soldiers in Jessamine County, Kentucky. Influenced by these events, the Congress took action in March of 1865 by emancipating the wives and children of any enlisted member of the United States Colored Troops. This law protected the refugees at Camp Nelson. It also provided an additional incentive for African American men to enlist in the Union Army, and caused recruitment to steadily climb through the end of the war. In fact, as of the spring of 1865, Camp Nelson and the refugee home were at their largest, with thousands of new recruits, Union troops, refugees, and civilians working and living in hundreds of structures.

In 1865, after the end of the war, the Department of War began the process of closing Camp Nelson. It took inventory of existing buildings and equipment and prepared to dismantle and abandon the camp. Many of Camp Nelson's military buildings, all of which were built as temporary structures to be used during wartime, were either sold and moved, or dismantled. Only a few structures, like the Oliver Perry house, which predated the camp's establishment, and the Camp Nelson Home for Colored Refugees, were left intact following the closure.

The Bureau of Refugees, Freedmen, and Abandoned Lands, more commonly referred to as the “Freedmen's Bureau,” assumed management of the Camp Nelson Home for Colored Refugees during the post-war transition. Many of the African Americans who lived at Camp Nelson had envisioned that the refugee home would be a center for a thriving post-war African American community. The policy of the Freedmen's Bureau, however, was to remove all refugees from military installations. By October of 1865, all of the former Civil War refugee camps in Kentucky and Tennessee had been closed, with the exception of Camp Nelson. While the refugee home officially closed in 1866, approximately 250 individuals stayed and sustained a community there, which today is known as Hall, Kentucky. And although no original buildings remain from the Camp Nelson Home for Colored Refugees, the descendants of refugees and soldiers maintain connections to Camp Nelson, and some still live in the Hall community.

The history of Camp Nelson is now told primarily through archival and military records, as well as rich archeological evidence from the site. The well-preserved in situ archeological resources associated with the military installation, recruitment camp, and refugee home provide robust opportunities for researchers to understand the African American experience during the Civil War. The broader Camp Nelson archeological record also provides opportunities for research and scholarship related to military history, race, identity, and gender during the Civil War—a pivotal chapter of the Nation's history. The preserved archeological resources at the sites of Camp Nelson and the Camp Nelson Home for Colored Refugees provide insight into what was once a place where formerly enslaved individuals experienced freedom and self-determination, and struggled to create a sense of home, amidst the chaos of war. Camp Nelson reminds us of the courage and determination possessed by formerly enslaved African Americans as they fought for their freedom.

WHEREAS, section 320301 of title 54, United States Code (the “Antiquities Act”), authorizes the President, in his discretion, to declare by public proclamation historic landmarks, historic and prehistoric structures, and other objects of historic or scientific interest that are situated upon the lands owned or controlled by the Federal Government to be national monuments, and to reserve as a part thereof parcels of land, the limits of which shall be confined to the smallest area compatible with the proper care and management of the objects to be protected;

WHEREAS, the Camp Nelson Historic and Archeological District was designated as a National Historic Landmark in 2016 for its national significance as the site of one of the Nation's largest recruitment and training centers for African American soldiers during the Civil War, as well as a refugee camp for the families of those African American soldiers;

WHEREAS, Jessamine County, Kentucky, has donated to the American Battlefield Trust fee title to the Camp Nelson Civil War Heritage Park, located at 6614 Danville Road, Nicholasville, Kentucky, totaling approximately 373 acres, and the nearby property containing archeological evidence of the Camp Nelson Home for Colored Refugees, totaling approximately 7 acres (collectively, the Camp Nelson site);

WHEREAS, the American Battlefield Trust has relinquished fee title to these properties to the Federal Government;

WHEREAS, the designation of a national monument to be administered by the National Park Service (NPS) would recognize the historic significance of the Camp Nelson site, particularly the events that transpired at this location during and after the Civil War, and provide a national platform for preserving this history;

WHEREAS, the NPS intends to cooperate with Jessamine County, Kentucky, in the preservation, interpretation, operation, and maintenance of, and in educating about, the Camp Nelson site;

WHEREAS, it is in the public interest to preserve and protect the Camp Nelson site, in Jessamine County, Kentucky, and the objects of historic interest therein;

NOW, THEREFORE, I, DONALD J. TRUMP, President of the United States of America, by the authority vested in me by section 320301 of title 54, United States Code, hereby proclaim the objects identified above that are situated upon lands and interests in lands owned or controlled by the Federal Government to be the Camp Nelson National Monument (monument) and, for the purpose of protecting those objects, reserve as a part thereof all lands and interests in lands owned or controlled by the Federal Government within the boundaries described on the accompanying map entitled “Camp Nelson National Monument, Nicholasville, Kentucky,” which is attached to and forms a part of this proclamation. The reserved Federal lands and interests in lands encompass approximately 380 acres. The boundaries described on the accompanying map are confined to the smallest area compatible with the proper care and management of the objects to be protected.

All Federal lands and interests in lands within the boundaries described on the accompanying map are hereby appropriated and withdrawn from all forms of entry, location, selection, sale, or other disposition under the public land laws, from location, entry, and patent under the mining laws, and from disposition under all laws relating to mineral and geothermal leasing.

The establishment of the monument is subject to valid existing rights. If the Federal Government acquires any lands or interests in lands not owned or controlled by the Federal Government within the boundaries described on the accompanying map, such lands and interests in lands shall be reserved as a part of the monument, and objects identified above that are situated upon those lands and interests in lands shall be part of the monument, upon acquisition of ownership or control by the Federal Government.

The Secretary of the Interior (Secretary) shall manage the monument through the NPS, pursuant to applicable legal authorities, consistent with the purposes and provisions of this proclamation. The Secretary shall prepare a management plan with full and appropriate public involvement within 3 years of the date of this proclamation. The management plan shall ensure that the monument fulfills the following purposes for the benefit of present and future generations: (1) to preserve and protect the objects of historic interest within the monument, and (2) to interpret the objects, resources, and values related to the Camp Nelson site. The management plan shall also set forth the desired relationship of the monument to other related resources, programs, and organizations, both within and outside the National Park System.

The NPS is directed to use applicable authorities to seek to enter into agreements with others, including Jessamine County, to address common interests and promote management efficiencies, including provision of visitor services, interpretation and education, establishment and care of museum collections, and preservation of historic objects.

Nothing in this proclamation shall be deemed to revoke any existing withdrawal, reservation, or appropriation; however, the national monument shall be the dominant reservation.

Warning is hereby given that no unauthorized persons shall appropriate, injure, destroy, or remove any feature of this monument, or locate or settle upon any of the lands thereof.

IN WITNESS WHEREOF, I have hereunto set my hand this twenty-sixth day of October, in the year of our Lord two thousand eighteen, and of the Independence of the United States of America the two hundred and forty-third.

Billing code 3295-F9-P

[FR Doc. 2018-24027

Filed 10-30-18; 2:00 p.m.]

Billing code 3295-F9-C